DEPARTMENT OF COMMERCE

International Trade Administration

[A-570-855]

Certain Non-Frozen Apple Juice Concentrate From the People's Republic of China: Notice of Extension of Time Limit for the Final Results of the Second Administrative Review and New Shipper Review

AGENCY: Import Administration, International Trade Administration, Department of Commerce.

SUMMARY: The Department of Commerce is extending the time limit for the final results of the second administrative review and new shipper review of Gansu Tongda Fruit Juice and Beverage Co., Ltd. of the antidumping duty order on certain non-frozen apple juice concentrate from the People's Republic of China. Gansu Tongda Fruit Juice and Beverage Co., Ltd. agreed to waive the time limits for the new shipper review in order to align the schedule with the annual administrative review overlapping the same time period, pursuant to 19 CFR 351.214(j)(3). The period of review for the second review and new shipper review is June 1, 2001 through May 31, 2002.

EFFECTIVE DATE: October 22, 2003.

FOR FURTHER INFORMATION CONTACT: FOR FURTHER INFORMATION CONTACT: Audrey R. Twyman or John Brinkmann, Office of AD/CVD Enforcement I, Import Administration, U.S. Department of Commerce, 14th Street and Constitution Avenue, NW, Washington, DC 20230; telephone (202) 482-3534 or (202) 482-4126, respectively.

SUPPLEMENTARY INFORMATION:

Background

On July 7, 2003, the Department of Commerce (“the Department”) published in the Federal Register the preliminary results of its administrative review and new shipper review for Gansu Tongda Fruit Juice and Beverage Co., Ltd. (“Gansu Tongda”) for certain non-frozen apple juice concentrate from the People's Republic of China (“PRC”), covering June 1, 2002 through May 31, 2002. See Certain Non-Frozen Apple Juice Concentrate From the People's Republic of China: Preliminary Results of 2001-2002 Administrative Review and New Shipper Review, and Partial Rescission of Administrative Review, 68 FR 40244 (July 7, 2003) (“Preliminary Results”). The final results are currently due no later than November 4, 2003.

Statutory Time Limits

Section 751(a)(2)(B)(iv) of the Tariff Act of 1930, as amended (“the Act”), requires the Department to issue the final results of a new shipper review within 90 days after the date on which the new shipper review preliminary result is issued. However, if the case is extraordinarily complicated, section 751(a)(2)(B)(iv) of the Act allows the Department to extend this deadline for the final results if necessary. Section 751(a)(3)(A) of the Act requires the Department to issue the final results of an administrative review within 120 days after the date on which the preliminary result is published. However, if it is not practicable to complete the review within the allocated time, section 751(a)(2)(B)(iv) of the Act allows the Department to extend publication of the final results for an additional 60 days.

Postponement

The Department has determined that it is not practicable to issue the final results within the original time period. This case has become extraordinarily complicated in light of case events. In particular, verification in the PRC that was originally scheduled to occur earlier in the proceeding was delayed due to restrictions on travel to the PRC. The additional time is required in order to allow parties adequate time to comment on the findings of the verification and to comment on the Department's preliminary results. Also, additional time is necessary to analyze data used in the calculation of normal value. Therefore, in accordance with sections 751(a)(2)(B)(iv) and 751(a)(3)(A) of the Act, we are postponing the final results of this second administrative review and new shipper review, until no later than December 15, 2003.

This notice is published pursuant to sections 777(i)(1) and 751(a)(1) of the Act.

Dated: October 16, 2003.
Jeffrey May,
Deputy Assistant Secretary for Import Administration.

[FR Doc. 03-26678 Filed 10-21-03; 8:45 am]

BILLING CODE 3510-DS-S